DEPARTMENT OF ENERGY

Federal Energy Regulatory Commission

18 CFR Part 341

[Docket No. RM12-15-000]

Filing, Indexing and Service Requirements for Oil Pipelines

AGENCY: Federal Energy Regulatory Commission, DOE.

ACTION: Notice of Proposed Rulemaking.

SUMMARY: The Federal Energy Regulatory Commission proposes to amend its regulations under the Interstate Commerce Act.¹ The Commission proposes to rewrite, remove, and update its regulations governing the form, composition and filing of rates and charges by interstate oil pipelines for transportation in interstate commerce. This proposal is a part of the Commission's ongoing program to review its filing and reporting requirements and reduce unnecessary burdens by eliminating the collection of data that are not necessary to the performance of the Commission's regulatory responsibilities.

¹ 49 app. U.S.C. 1-85 (2000).

DATES: Comments are due November 28, 2012.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting comments and additional information on the rulemaking process, see the Comment Procedures Section of this document.

FOR FURTHER INFORMATION CONTACT:

Aaron Kahn (Technical Issues), 888 First Street NE., Washington, DC 20426, (202) 502-8339, aaron.kahn@ferc.gov.

Michelle A. Davis (Legal Issues), 888 First Street NE., Washington, DC 20426, (202) 502-8687, michelle.davis2@ferc.gov.

141 FERC ¶ 61,036

Before Commissioners: Jon Wellinghoff, Chairman; Philip D. Moeller, John R. Norris, Cheryl A. LaFleur, and Tony T. Clark.

Issued October 18, 2012

1. The Federal Energy Regulatory Commission (Commission or FERC) proposes to amend Part 341 of its regulations to rewrite, remove, and update its regulations governing the form, composition and filing of rates and charges by interstate oil pipelines for transportation in interstate commerce.² This proposal is a part of the Commission's ongoing program to review its filing and reporting requirements and reduce unnecessary burdens by eliminating the collection of data that are not necessary to the performance of the Commission's regulatory responsibilities.

² 18 CFR Part 341 (2012).

I. Background

2. Section 6 of the Interstate Commerce Act (ICA) requires interstate oil pipelines to file rates, fares, and charges for transportation on their systems, and also to file copies of contracts with other common carriers for such traffic. Similarly, section 20 of the ICA requires annual or special reports from carriers subject to the ICA collected by the Commission.³ These requirements are reflected in 18 CFR Parts 341 and 357 of the Commission's regulations.⁴

³ See 49 U.S.C. app. 6, 20 (1988).

⁴ See also 18 CFR Parts 341, 357 (2012) (implementing the filing and reporting requirements of sections 6 and 20 of the ICA).

3. In 2008, the Commission adopted Order No. 714, which required that all tariffs and tariff revisions and rate change applications for oil pipelines and other FERC-regulated entities be filed electronically according to a set of standards developed in conjunction with the North American Energy Standards Board.⁵ The Commission adopted Order No. 714, in part, to comply with the Paperwork Reduction Act, the Government Paperwork Elimination Act, and the E-Government Act of 2002 by developing the capability to file electronically with the Commission via the Internet. As relevant here, the Commission reasoned that electronic filing provides for easier tracking of document filing activity; potentially reduces mailing and courier fees; allows concurrent access to the tariff filing by multiple parties as well as the ability to download and print tariff filings; and provides automatic email notification to an applicant of receipt of the filing. Consequently, since April 1, 2010, all tariff filings with the Commission must be made electronically.⁶

⁵ Electronic Tariff Filings, Order No. 714, FERC Stats. & Regs. ¶ 31,276 (2008).

⁶ Id. P 104.

II. Discussion

4. As noted, sections 6 and 20 of the ICA require interstate oil pipelines to file rates, fares, and charges for transportation on their systems, and also to file copies of contracts with other common carriers for such traffic. The Commission now proposes an overhaul of its regulations in Part 341 that incorporate “housekeeping” changes to eliminate obsolete language and sections. The proposed Part 341 changes represent reorganization, rewriting, updating, modification, consolidation, and pruning of the current regulations. The changes provide for more useful and less burdensome data filed in electronic format. In an effort to increase public access to interstate oil pipeline tariffs, reduce interstate oil pipelines' regulatory burden of making tariff filings, and to improve interstate oil pipeline service to their shippers, the Commission proposes modifying Part 341 of its regulations. Many of these changes reflect the requirements established in Order No. 714.

III. Proposed Revisions

A. Posting Requirements

1. Eliminating Paper Posting

5. Consistent with the Commission's goal to streamline its procedures to eliminate unnecessary regulatory obligations, the Commission proposes to eliminate the paper posting requirements of sections 341.0(a)(7), 341.7, and 341.3(c) of its regulations. Section 341.0(a)(7) currently provides that oil pipelines must post their tariffs by making them “available during regular business hours for public inspection in a convenient form and place at the carrier's principal office and other offices of the carrier where business is conducted with affected shippers, or placing a copy on the Internet in a form accessible by the public.” Similarly, section 341.7 requires that “[c]oncurrences must be maintained at carriers' offices and produced upon request.” ⁷ Lastly, section 341.3(c) lays out the requirements for “loose-leaf tariffs,” i.e., paper tariffs.

⁷ 18 CFR 341.7 (2012). See also 18 CFR 341.0(a)(2) (defining a concurrence as the agreement of a carrier to participate in the joint rates or regulations published by another carrier).

6. The Commission proposes to revise 341.0(a)(7) to eliminate the requirement that oil pipelines make their tariffs “available for public inspection in a convenient form and place at the carriers' principal office and other offices where business is conducted.” Instead, consistent with the requirements for public utilities and interstate natural gas pipelines, the Commission proposes to mandate that oil pipelines electronically post their currently effective, pending and suspended tariffs on their public Web sites.⁸ The Commission also proposes to revise section 341.7 of its regulations to eliminate the requirement that “concurrences be maintained at carriers' offices” in paper form. In conjunction with these changes, the Commission proposes to update section 341.3 of its regulations by removing subsection 341.3(c), which references outdated “loose-leaf tariffs.” These proposals should reduce the burden on interstate oil pipelines while increasing the ease of accessing oil pipeline tariffs for shippers and possibly the oil pipelines themselves.

⁸ The terms of “effective,” “pending” and “suspended” are those used by Order No. 714 and eTariff, and for this document. The equivalent terms in 18 CFR 341.0(b)(4) (2012) are “current,” “proposed” and “suspended,” respectively. See also 18 CFR 35.7 (2012) (establishing the Public Utility Electronic Filing Requirements) and 18 CFR 284.12 (2012) (establishing the Natural Gas Electronic Filing Requirements).

2. Service of Filings

7. The Commission proposes to revise section 341.1(a) of its regulations to become consistent with section 385.2010 of its regulations by eliminating an oil pipeline's obligation to “serve tariff publications and justifications to each shipper and subscriber” by paper. Section 385.2010(f)(2) provides that, subject to certain limitations and exceptions, “service of any document in proceedings commenced on or after March 21, 2005, must be made by electronic means unless the sender and recipient agree otherwise or the recipient's email address is unavailable from the official service list.” ⁹ This proposed change will create a uniform service requirement for all Commission-regulated entities and eliminate any ambiguity regarding the Commission's preferred mode of service. Moreover, this proposal should reduce the burden on interstate oil pipelines while increasing ease of tracking document filing activity and potentially reducing mailing and courier fees.

⁹ 18 CFR 385.2010 (2012).

3. Index of Effective Tariffs

8. As part of its efforts to eliminate unnecessary filing requirements, the Commission proposes to make changes to section 341.9 of its regulations, which specifies the information that an oil pipeline's tariff index must contain and how it must be organized. Section 341.9(a) of the Commission's regulations provides that each Commission-regulated “carrier must publish as a separate tariff publication under its FERC Tariff numbering system, a complete index of all effective tariffs to which it is a party * * *.” Section 341.9(e) further provides that the “index must be kept current by supplements numbered consecutively. The supplements may be issued quarterly. At a minimum, the index must be reissued every four years.”

9. The Commission proposes to eliminate the requirement that oil pipelines make a tariff filing setting forth an index of all effective tariffs to which it is a party and replace such requirement with an obligation that oil pipelines post the index of tariffs on their public Web sites. The Commission also proposes to simplify the information oil pipelines must include by requiring that the index of tariffs identify for each tariff: (1) The product being shipped and (2) the origin and destination points for that product. The Commission further proposes that oil pipelines update the index of tariffs within ninety days of any change.

10. This proposal would eliminate the need of an oil pipeline to make a tariff filing. The posting of index tariffs on an oil pipeline's public Web site would also provide shippers with more current information. Importantly, this proposal would simplify what is required to be contained in the index of tariffs without negatively impacting the information provided to shippers.

11. Similarly, many oil pipelines only have one or two tariffs on file with the Commission. For oil pipelines with a limited number of tariffs, the Commission questions the value of an index of tariffs and believes that such index provides little benefit to shippers. Therefore, the Commission proposes to require only oil pipelines with more than two tariffs to maintain an index of tariffs on their public Web sites. The Commission estimates that the proposed changes to the index of tariff requirements will eliminate approximately twenty-two unnecessary filings each year. These changes will still provide shippers and the public at large with current and useful information, without any negative impact.

B. Electronic Updates and Filing Requirements

12. Many of the tariff filing and tariff maintenance requirements currently stated in part 341 of the Commission's regulations are premised on the maintenance of paper records. Since the implementation of Order No. 714, however, some oil pipeline tariff filings are now obsolete. In light of these changes, as explained below, the Commission proposes removing the filing requirements for amendments to tariff provided for under section 341.4 of the Commission's regulations, including the amendment and suspension requirements.

1. Tariff Supplements

13. Section 341.4(a)(1) of the Commission's regulations allows an oil pipeline's tariff to be supplemented only once.¹⁰ The Commission believes that this provision is now outdated because it is practical for oil pipelines to modify electronic tariffs at any time. Accordingly, the Commission proposes to delete the provisions in section 341.4(a)(1).

¹⁰ 18 CFR 341.4(a)(1) (2012) (limiting supplements to one effective supplement per tariff, except for cancellation, postponement, adoption, corrections, and suspension supplements).

2. Amended, Canceled or Reissued Tariff Supplement Data

14. Section 341.4(a)(2) of the Commission's regulations sets forth the requirements for maintenance of oil pipeline tariffs that are amended, canceled, or reissued.¹¹ In Order No. 714, the Commission required oil pipelines to maintain Record Version Numbers for each tariff record.¹² Consequently, supersession data is now maintained electronically ¹³ and the provisions set forth in section 341.4(a)(2) are obsolete. Consequently, the Commission proposes deleting these provisions.

¹¹ 18 CFR 341.4(a)(2) (2012).

¹² Record Version Number is the representation of the version of the Tariff Record. See Implementation Guide for Electronic Filing of Parts 35, 154, 284, 300 and 341 Tariff Filings (Implementation Guide) located on the Commission Web site.

¹³ Tariff record supersession data includes the following: Record Current Status, Current Effective Date, and FERC Order Date. See eTariff Viewer located on the Commission's Web site at http://www.ferc.gov/.

3. Cancelling Tariffs

15. The Commission proposes to consolidate the instructions for cancellation of tariffs into Section 341.5 of the Commission's regulations.¹⁴ Section 341.4(b) of the Commission's regulations requires oil pipelines to file supplements to an amendment to a tariff “when tariffs are canceled without reissue.” ¹⁵ Section 341.5 of the Commission's regulations also details requirements in the event that an oil pipeline's tariff is canceled. Rather than addressing cancelation in two separate regulations, the Commission proposes to consolidate and simplify the requirements relating to oil pipeline tariff cancelations into section 341.5 of the Commission's regulations by detailing that if an oil pipeline tariff is no longer offered, then the oil pipeline must cancel such tariff within thirty days of the termination of the tariff.

¹⁴ 18 CFR 341.5 (2012).

¹⁵ 18 CFR 341.4(b) (2012). See also 18 CFR 341.3(b)(10)(ii) (2012) (detailing tariff reissuance requirements).

4. Suspension Supplements

16. The Commission proposes to eliminate the filing requirements for oil pipeline suspension supplements required by section 341.4(f) of the Commission's regulations. Section 341.4(f) provides for oil pipelines a “suspension supplement must be filed for each suspended tariff or suspended part of a tariff within 30 days of the issuance of a suspension order.” ¹⁶ Section 341.1(f) further provides that the suspension supplement, which must be served on all subscribers, “must include the date it is issued, a reproduction of the ordering paragraphs of the suspension order, a statement that the tariff or portion of the tariff was suspended until the date stated in the suspension order, a reference to the docket number under which the suspension order was issued, and a statement that the previous tariff publication remains in effect.”

¹⁶ 18 CFR 341.4(f) (2012).

17. This suspension supplement tariff record filing was originally premised on the maintenance of a paper records and the service of such paper tariff records, which is now obsolete because of the electronic filing requirements of Order No. 714. Accordingly, the Commission proposes eliminating the current filing requirements of section 341.4(f) and replacing them with an obligation of oil pipelines to serve Commission suspension orders on individual pipeline subscriber lists. This will eliminate the tariff filing for the suspension supplement, as well as subsequent filings an oil pipeline must make to remove a suspension supplement. The Commission estimates that this will eliminate approximately twelve filings each year.

5. Amendments to Tariffs

18. The Commission proposes further revisions to section 341.4 of its regulations to treat all amendments to pending tariffs, whether ministerial or substantive, in the same manner as they are treated for public utilities and natural gas companies. Section 341.4(e) of the Commission's regulations limits an oil pipeline from filing more than three “correction supplements” to correct “typographical or clerical errors” per tariff. In contrast, the Commission's regulations do not allow an oil pipeline to make non-ministerial tariff changes without filing to withdraw any pending proposal and making a new tariff filing.

19. In the electronic filing environment established by Order No. 714, the Commission does not believe that it should limit the number of times an oil pipeline may make corrections to a tariff record. Therefore, the Commission proposes to revise section 341.4 of its tariff to treat all amendments to pending tariff records, whether ministerial or substantive, the same to allow an oil pipeline to file to amend or to modify a tariff record at any time during the pendency of the Commission acting on such tariff record. In addition, the Commission proposes creating a tariff record amendment process that parallels the existing business process for amending pending statutory tariff filings under its public utility and natural gas programs.¹⁷ Under this proposal, an oil pipeline will be able to keep its requested effective date from its original tariff record filing, while giving interested parties a full comment period to address any issues relating to a proposed amendment. An amendment will toll the notice period as provided in section 341.2(b) of the Commission's regulations, for the original filing, and establish a new date for final Commission action.

¹⁷ 18 CFR 35.17(b) and 18 CFR 154.205(b) (2012) (respectively).

6. Adoption

20. Section 341.6(a) provides an oil pipeline must file a tariff and “notify the Commission when there is: (1) A change in the legal name of the carrier; (2) a transfer of all of the carrier's properties; or (3) a change in ownership of only a portion of the carrier's property.” This filing must be made by the oil pipeline “as soon as possible but no later than [thirty] days following such occurrence.” This filing is commonly known as an “Adoption Notice.” Section 341.6(c) further provides that “when a carrier changes its legal name, or when ownership of all a carrier's properties is transferred, or when the ownership of a portion of a carrier's properties is transferred to another carrier, the adopting carrier must file and post an adoption notice.” In these instances, the adopting oil pipeline must make a tariff filing within thirty days transferring into its Commission tariff records, the rates that the adopting oil pipeline is adopting (filing to bring tariffs forward).

21. To eliminate unnecessary filings, the Commission proposes consolidating the Adoption Notice filing and the filing to integrate the tariff records of the adopting carrier. To implement this change, the Commission proposes modeling sections 341.6(a) on section 154.603 of the Commission's natural gas regulations. Section 154.603 provides that “[w]henever the tariff * * * of a natural gas company on file with the Commission is to be adopted by another company or person as a result of an acquisition, or merger * * * the succeeding company must file with the Commission, and post within 30 days after such succession, a tariff filing * * * bearing the name of the successor company.” The Commission estimates that this proposal will eliminate approximately fifteen Adoption Notice filings each year.

7. Implementation

22. If the Commission adopts the proposed changes to the types of filings discussed above, the Secretary of the Commission will issue a revised list of Type of Filing Codes.¹⁸

¹⁸ See 18 CFR 375.302(z) (2012). The Implementation Guide describes the Type of Filing contents. The Type of Filing Code list is posted on the Commission's Web site at http://www.ferc.gov/docs-filing/etariff/filing_type.csv.

IV. Information Collection Statement

23. The Office of Management and Budget (OMB) regulations require approval of certain information collection requirements imposed by agency rules.¹⁹ Upon approval of a collection(s) of information, OMB will assign an OMB control number and an expiration date. Respondents subject to the filing requirements of an agency rule will not be penalized for failing to respond to these collections of information unless the collections of information display a valid OMB control number. The Paperwork Reduction Act (PRA) ²⁰ requires each Federal agency to seek and obtain OMB approval before undertaking a collection of information directed to ten or more persons or contained in a rule of general applicability.²¹

¹⁹ 5 CFR 1320 (2012).

²⁰ 44 U.S.C. 3501-3520 (2012).

²¹ OMB's regulations at 5 CFR 1320.3(c)(4)(i) (2012) require that “Any recordkeeping, reporting, or disclosure requirement contained in a rule of general applicability is deemed to involve ten or more persons.”

24. The Commission is submitting these reporting requirements to OMB for its review and approval under section 3507(d) of the PRA. Comments are solicited on the Commission's need for this information, whether the information will have practical utility, the accuracy of provided burden estimates, ways to enhance the quality, utility, and clarity of the information to be collected, and any suggested methods for minimizing the respondent's burden, including the use of automated information techniques.

25. The Commission's estimate of the change in Public Reporting Burden and cost related to the proposed rule in Docket RM12-15-000 follow.

26. The proposed regulations will eliminate or reduce several filing requirements as obsolete and no longer necessary. The eliminated or reduced filings include the filing of Index of Tariffs, reduced number of adoption filings, eliminated suspension supplements, and reduced number of filings necessary to amend incorrect filings. Based upon a review of the filings made by interstate oil pipelines since eTariff was implemented in April 2010, the Commission estimates a reduction of 99 tariff filings and 1,082 burden hours per year, as shown in the table below.

²² The cost figure is based on management analyst work at $38.50 per hour. We adjusted the $38.50 figure to account for benefits resulting in a loaded figure of $55 per hour ($38.5/0.704). We obtained wage and benefit information from Bureau of Labor Statistics information at http://bls.gov/oes/current/naics2_22.htm and http://www.bls.gov/news.release/ecec.nr0.htm.

RM12-15, FERC-550 | Reduction in filings | Estimated hours per filing | Total hours | Total cost reduction²²
Revised 341.4, Amendments to tariff filings | 50 | 11 | 550 | $30,250
Revised 341.6, Adoption of the tariff by a successor. | 15 | 11 | 165 | 9,075
Elimination of 341.4(f) (Suspension Supplements) | 12 | 11 | 132 | 7,260
Revised 341.9, Index of Tariffs | 22 | 11 | 242 | 13,310
Total | 99 |  | 1,089 | 59,895

27. The Commission proposes to revise Part 341's tariff posting requirements for interstate oil pipelines from paper to electronic format. There is no change in burden for the pipelines to maintain the status of their tariffs for public inspection, as that requirement is unchanged. The Commission recognizes that there will be a one-time increased burden involved in the initial implementation associated with purchasing software and updating Web sites to post their tariff electronically. We estimate a one-time additional cost of $250 per respondent for non-labor costs. Additionally we estimate a one-time hourly burden of 20 hours per respondent for updating the web sites for posting of the tariffs.

RM12-15, FERC-550 | Number of pipelines with tariffs | Estimated additional one-time burden per filer | Total estimated additional one-time burden | Estimated additional one-time non-labor hours cost per filer | Total estimated one-time hourly burden cost per filer
|  | (hr.) | (hr.) | ($) | ($)
Revisions to 18 CFR Part 341 | 167 | 20 | 3,340 | 250 | 1,097

Information Collection Costs: The Commission seeks comments on the costs and burden to comply with these requirements.

Total additional one-time non-labor hour cost = $41,750 ($250 per respondent).²³

²³ The $250 is an aggregate number. Some respondents will incur little to no expense in order to satisfy the proposals in this rulemaking as they already post their tariffs on their web sites and/or have software with that functionality.

Savings per year = $468 per respondent.²⁴

²⁴ Based on an annual reduction of $59,895 divided by 128, the average number of respondents per year. The number of pipelines with tariffs is greater than the number of respondents because not all pipelines with tariffs make tariff filings every year.

Total additional one-time hourly burden cost = $183,199 ($1,097 per respondent).²⁵

²⁵ The cost figure is based on 5 hours of computer analyst work ($39.02/hour) and 15 hours of management analyst work ($38.50/hour) resulting in a total of $772.60. We adjusted the $772.60 figure to account for benefits resulting in a loaded figure of $1,097 ($772.60/0.704). We obtained wage and benefit information from the Bureau of Labor Statistics (at http://bls.gov/oes/current/naics2_22.htm and at http://www.bls.gov/news.release/ecec.nr0.htm).

Burden hour savings per year after implementation year = 8.4 hours per respondent

Title: FERC-550, Oil Pipeline: Tariff Filing

Action: Proposed Revisions to the FERC-550.

OMB Control No: 1902-0089.

Respondents: Public and non-public utilities.

Frequency of Responses: Initial implementation and ongoing reduction in burden.

Necessity of the Information: The proposals in this Proposed Rule would, if implemented, increase transparency to both shippers and the public, simplify some filings, reduce the regulatory burden placed on oil pipelines, and modernize Part 341 in accordance with the Commission's electronic systems.

Internal review: The Commission has reviewed the proposed changes and has determined that the changes are necessary. These requirements conform to the Commission's need for efficient information collection, communication, and management within the energy industry. The Commission has assured itself, by means of internal review, that there is specific, objective support for the burden estimates associated with the information collection requirements.

Interested persons may obtain information on the reporting requirements by contacting: Federal Energy Regulatory Commission, 888 First Street NE., Washington, DC 20426 [Attention: Ellen Brown, Office of the Executive Director, email: DataClearance@ferc.gov, Phone: (202) 502-8663, fax: (202) 273-0873]. Comments on the requirements of this rule may also be sent to the Office of Information and Regulatory Affairs, Office of Management and Budget, Washington, DC 20503 [Attention: Desk Officer for the Federal Energy Regulatory Commission]. For security reasons, comments should be sent by email to OMB at oira_submission@omb.eop.gov. Please reference OMB Control No. 1902-0089, FERC-550 and the docket number of this proposed rulemaking in your submission.

V. Environmental Analysis

28. The Commission is required to prepare an Environmental Assessment or an Environmental Impact Statement for any action that may have a significant adverse effect on the human environment.²⁶ The actions taken here fall within categorical exclusions in the Commission's regulations for information gathering, analysis, and dissemination.²⁷ Therefore, an environmental assessment is unnecessary and has not been prepared in this rulemaking.

²⁶ Regulations Implementing the National Environmental Policy Act, Order No. 486, FERC Stats. & Regs., Regulations Preambles 1986-1990 ¶ 30,783 (1987).

²⁷ 18 CFR 380.4(a)(5) (2012).

VI. Regulatory Flexibility Act Certification

29. The Regulatory Flexibility Act of 1980 (RFA) requires agencies to prepare certain statements, descriptions, and analyses of proposed rules that will have a significant economic impact on a substantial number of small entities.²⁸ Agencies are not required to make such an analysis if a rule would not have such an effect.

²⁸ 5 U.S.C. 601-12 (2012).

30. The Commission does not believe that this proposed rule will have a significant impact on small entities, nor will it impose upon them any significant costs of compliance. The Commission identified 29 small entities as respondents to the requirements in the proposed rule.²⁹ As explained above, the changes to Part 341 of the Commission's regulations will only impose a small burden in the first year ($2,460 per respondent), and will result in net savings for other years ($3,369 per company). The Commission does not estimate that there are any other regulatory burdens associated with this final rule. Thus, the Commission certifies that the final rule would not have a significant economic impact on a substantial number of small entities.

²⁹ The RFA definition of “small entity” refers to the definition provided in the Small Business Act, which defines a “small business concern” as a business that is independently owned and operated and that is not dominant in its field of operation. 15 U.S.C. 632 (2012). The Small Business Size Standards component of the North American Industry Classification System defines a small oil pipeline company as one with less than 1,500 employees. See 13 CFR Parts 121, 201 (2012).

VII. Comment Procedures

31. The Commission invites interested persons to submit comments on the matters and issues proposed in this notice to be adopted, including any related matters or alternative proposals that commenters may wish to discuss. Comments are due November 28, 2012. Comments must refer to Docket No. RM12-15-000, and must include the commenter's name, the organization they represent, if applicable, and their address in their comments.

32. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

33. Commenters that are not able to file comments electronically must send an original of their comments to: Federal Energy Regulatory Commission, Secretary of the Commission, 888 First Street NE., Washington, DC 20426.

34. All comments will be placed in the Commission's public files and may be viewed, printed, or downloaded remotely as described in the Document Availability section below. Commenters on this proposal are not required to serve copies of their comments on other commenters.

VIII. Document Availability

35. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

36. From the Commission's Home Page on the Internet, this information is available on eLibrary. The full text of this document is available on eLibrary in PDF and Microsoft Word format for viewing, printing, and/or downloading. To access this document in eLibrary, type the docket number excluding the last three digits of this document in the docket number field.

37. User assistance is available for eLibrary and the Commission's Web site during normal business hours from the Commission's Online Support at 202-502-6652 (toll free at 1-866-208-3676) or email at ferconlinesupport@ferc.gov, or the Public Reference Room at (202) 502-8371, TTY (202) 502-8659. Email the Public Reference Room at public.referenceroom@ferc.gov.

List of subjects in 18 CFR Part 341

Pipelines, Reporting and recordkeeping requirements.

By direction of the Commission.
Nathaniel J. Davis, Sr.,
Deputy Secretary.

In consideration of the foregoing, the Commission proposes to amend Part 341, Chapter I, Title 18, Code of Federal Regulations, as follows.

PART 341—OIL PIPELINE TARIFFS: OIL PIPELINE COMPANIES SUBJECT TO SECTION 6 OF THE INTERSTATE COMMERCE ACT

1. The authority citation for Part 341 continues to read as follows:

Authority: 42 U.S.C. 7101-7352; 49 U.S.C. 1-27.

2. Section 341.0(a)(7) is revised to read as follows:

§ 341.0 Definitions; application.

(a) * * *

(7) Posting or Post means making current, proposed and suspended tariffs available on a carrier's public Web site.

* * * * *

3. In § 341.2(a)(1), revise the third sentence in paragraph 341.2(a)(1), to read as follows:

§ 341.2 Filing requirements.

(a) * * *

(1) * * * Such service shall be made in accordance with the requirements of § 385.2010 of this chapter.

* * * * *

§ 341.3 [Amended]

4. In § 341.3 remove paragraph (c).

5. Section 341.4 is revised to read as follows:

§ 341.4 Amendments of tariff filings.

A carrier may file to amend or modify a tariff contained in a tariff filing at any time during the pendency of the filing. Such filing will toll the notice period as provided in § 341.2(b) for the original filing, and establish a new date on which the entire filing will become effective, in the absence of Commission action, no earlier than 31 days from the date of the filing of the amendment or modification.

6. Section 341.5 is revised to read as follows:

§ 341.5 Cancellation of Tariffs.

Carriers must cancel tariffs when the service or transportation movement is terminated. If the service in connection with the tariff is no longer in interstate commerce, the tariff publication must so state. Carrier must file such cancellations within 30 days of the termination of service.

7. Section 341.6 is revised to read as follows:

§ 341.6 Adoption of the tariff by a successor.

Whenever the tariff(s) of a carrier on file with the Commission are to be adopted by another carrier as a result of an acquisition, merger, or name change, the succeeding company must file with the Commission, and post within 30 days after such succession, a tariff in the electronic format required by § 341.1 bearing the name of the successor company.

8. Section 341.7 is revised to read as follows:

§ 341.7 Concurrences.

Concurrences must be shown in the carriers' tariff and maintained consistent with the requirements of Part 341 of this chapter.

9. Amend § 341.9 by:

a. In paragraph (a) introductory text, revise the first sentence ;

b. Adding paragraph (a)(5) ;

c. Removing paragraphs (b), (c), (d) and (f); and

d. Redesignating paragraph (e) as paragraph (b) and revising it.

The revisions and addition read as follows:

§ 341.9 Index of tariffs.

(a) Each carrier with more than two tariffs or concurrences must post on its public Web site a complete index of all effective tariffs to which it is a party, either as an initial, intermediate, or delivering carrier. * * *

* * * * *

(5) Product Shipped and Origin. Each index must identify, for each tariff, the product being shipped and the origin and destination points for that product.

(b) Updates. The index of tariffs must be updated within 90 days of any change to an effective tariff.

§ 341.11 [Amended]

10. In section 341.11 remove the second sentence in paragraph (b).

§ 341.13 [Amended]

11. In section 341.13, remove the second sentence in paragraph (c).

[FR Doc. 2012-26142 Filed 10-26-12; 8:45 am]

BILLING CODE 6717-01-P